DEPARTMENT OF THE INTERIOR

Bureau of Land Management

[BLM_AZ_FRN_MO4500181369]

Establishment and Call for Nominations for the Baaj Nwaavjo I'tah Kukveni-Ancestral Footprints of the Grand Canyon National Monument Advisory Committee

AGENCY: Bureau of Land Management, Interior.

ACTION: Notice.

SUMMARY: The Bureau of Land Management (BLM) is publishing this notice in accordance with the Federal Land Policy and Management Act, as amended (FLPMA), the Federal Advisory Committee Act (FACA), and Presidential Proclamation 10606, “Establishment of the Baaj Nwaavjo I'tah Kukveni-Ancestral Footprints of the Grand Canyon National Monument”. The BLM gives notice that the Secretary of the Interior is establishing the Baaj Nwaavjo I'tah Kukveni-Ancestral Footprints of the Grand Canyon National Monument Advisory Committee (MAC) and is seeking nominations for individuals to be considered as MAC members.

DATES: Comments regarding the establishment of this MAC must be submitted no later than September 4, 2024. All nominations must be received no later than October 4, 2024.

ADDRESSES: Comments regarding the establishment of the MAC and nominations for the MAC should be sent to the BLM office listed in the FOR FURTHER INFORMATION CONTACT section of this notice.

FOR FURTHER INFORMATION CONTACT: Rachel Carnahan, Public Affairs Specialist, BLM Arizona Strip District Office, 345 E Riverside Drive, St. George, UT 84780, phone: (435) 688-3303, email: rcarnahan@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Presidential Proclamation 10533 directs the Secretary of the Interior, through the Director of the BLM, and the Secretary of Agriculture, through the Chief of the U.S. Forest Service, to establish and maintain an advisory committee under FACA (5 U.S.C. ch. 10) with the specific purpose of providing information and advice regarding the development of the management plan and, as appropriate, management of the Baaj Nwaavjo I'tah Kukveni-Ancestral Footprints of the Grand Canyon National Monument. The MAC is established in accordance with section 309 of FLPMA, as amended (43 U.S.C. 1739). The BLM is subject to standards and procedures for the creation, operation, and termination of BLM resource advisory councils at 43 CFR 1784.

The MAC will include 15 members to be appointed by the Secretary of the Interior and the Secretary of Agriculture as follows:

1. A representative of the Arizona Game and Fish Department;

2. A representative employed by a State agency;

3. An elected official from local government;

4. Three representatives of Tribal Nations;

5. A representative of developed outdoor recreation, off-highway vehicle users, or commercial recreation activities in the Monument;

6. A representative of the conservation community;

7. A representative of wildlife, hunting, or fishing organizations;

8. A representative of cultural or historical interests;

9. A representative of the scientific community;

10. A representative of the ranching community;

11. A representative of local business owners; and

12. Two representatives of the public-at-large.

Members will be appointed to the MAC to serve three-year staggered terms.

Nominating Potential Members: Nominations should include a resume providing an adequate description of the nominee's qualifications, including information that would enable the Department of the Interior to make an informed decision regarding the membership requirements of the MAC and permit the Department of the Interior to contact a potential member. Nominees are strongly encouraged to include supporting letters from employers, associations, professional organizations, and/or other organizations that indicate support by a meaningful constituency for the nominee. Please indicate any BLM permits, leases, or licenses that you hold personally or are held by your employer. Members of the MAC serve without compensation. However, while away from their homes or regular places of business, members engaged in MAC business may be allowed travel expenses, including per diem in lieu of subsistence, as authorized by 5 U.S.C. 5703, in the same manner as persons employed intermittently in Federal Government service.

The MAC will meet approximately two to four times annually, and at such other times as designated by the Designated Federal Officer.

Simultaneous with this notice, the BLM will issue a press release providing additional information for submitting nominations.

Public Disclosure of Comments: Before including your address, phone number, email address, or other personally identifiable information (PII) in your comment, you should be aware that your entire comment—including your PII—may be made publicly available at any time. While you may ask us in your comment to withhold your PII from public review, we cannot guarantee that we will be able to do so.

Deb Haaland,
Secretary of the Interior.

[FR Doc. 2024-18663 Filed 8-19-24; 8:45 am]

BILLING CODE 4331-12-P